ENVIRONMENTAL PROTECTION AGENCY

[EPA-HQ-OPP-2004-0202; FRL-9911-37]

Pentachloronitrobenzene (PCNB); Notice of Receipt of Requests To Voluntarily Amend Registrations To Terminate Certain Uses

AGENCY: Environmental Protection Agency (EPA).

ACTION: Notice.

SUMMARY: In accordance with the Federal Insecticide, Fungicide, and Rodenticide Act (FIFRA), EPA is issuing a notice of receipt of requests by the registrant to voluntarily amend PCNB registrations for one manufacturing-use product and two end-use products to terminate or delete a number of uses. The requests would delete the use of Technical Grade PCNB (EPA Registration #5481-197) for formulation into products for use as seed treatments (except for the treatment of cloves of garlic) and products for use on certain non-residential terrestrial non-food crops. The requests also would terminate the use of the PCNB product with EPA Registration #5481-8988 on bedding plants, flowering plants, foliage plants, and bulb crops, and the use of the PCNB product with EPA Registration #5481-8992 on bedding plants, flowering plants, foliage plants, azaleas, camellias, gladiolus (broadcast), and cut flowers. These use deletion requests are detailed in Table 1 in Unit III. The requests would not terminate the last PCNB products registered for use in the United States. EPA intends to grant these requests at the close of the comment period for this announcement unless the Agency receives substantive comments within the comment period that would merit its further review of the requests, or unless the registrant withdraws its request(s). If these requests are granted, any sale, distribution, or use of products listed in this notice will be permitted after the uses are deleted only if such sale, distribution, or use is consistent with the terms as described in the final order.

DATES: Comments must be received on or before July 7, 2014.

ADDRESSES: Submit your comments, identified by docket identification (ID) number EPA-HQ-OPP-2004-0202, by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave. NW., Washington, DC 20460-0001.

• Hand Delivery: To make special arrangements for hand delivery or delivery of boxed information, please follow the instructions at http://www.epa.gov/dockets/contacts.htm. Additional instructions on commenting or visiting the docket, along with more information about dockets generally, is available at http://www.epa.gov/dockets.

FOR FURTHER INFORMATION CONTACT: Jill Bloom, Pesticide Re-evaluation Division (7508P), Office of Pesticide Programs, Environmental Protection Agency, 1200 Pennsylvania Ave. NW., Washington, DC 20460-0001; telephone number: (703) 308-8019; fax number: (703) 308-7070; email address: bloom.jill@epa.gov.

SUPPLEMENTARY INFORMATION:

I. General Information

A. Does this action apply to me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action.

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

II. Background on the Receipt of Requests To Amend Registrations To Delete Uses

This notice announces receipt by EPA of requests from the registrant Amvac to delete certain uses of PCNB product registrations. PCNB is a fungicide used to control diseases of turf, ornamentals, cole crops, potatoes, cotton, and other agricultural and horticultural crops. In letters dated November 21, 2011, and August 24, 2012, and as clarified in later discussions, Amvac requested that EPA delete certain uses of the pesticide product registrations identified in Table 1 of Unit III. Specifically, Amvac requested that the Agency amend the technical product registration to delete the use as a seed treatment (except for the treatment of cloves of garlic), as well as the uses on a number of non-residential terrestrial non-food crops. Amvac additionally requested use deletions for two end-use PCNB products as shown in Table 1 of Unit III of this Notice. Amvac is requesting these use terminations pursuant to requests by EPA after the Agency's review of AMVAC's revised Confidential Statement of Formula (CSF) for the technical grade material. These use deletions, along with new directions for use for the remaining uses, will reduce worker exposures to impurities of toxicological significance found in this pesticide. The requests will not terminate the last PCNB products registered in the United States.

III. What action is the agency taking?

This notice announces receipt by EPA of requests from a registrant to delete certain uses of certain PCNB product registrations. The affected products and the registrant making the requests are identified in Tables 1 and 2 of this unit.

Unless a request is withdrawn by the registrant or if the Agency determines that there are substantive comments that warrant further review of this request, EPA intends to issue an order amending the affected registrations.

Table 1—PCNB Product Registrations With Pending Requests for Amendment
Registration No. | Product name | Company | Uses to be deleted
5481-197 | Technical Grade PCNB | Amvac | African violet; azaleas; bedding plants; begonias; calendula; camellia; carnation; chrysanthemum; larkspur; ornamental flowering plants; poinsettia; roses; snapdragon; and sweet peas. Seed treatments on barley, beans, corn, cotton (acid-delinted, fuzzy, reginned, or mechanically-delinted seed), oats, peanuts, peas, rice, safflower, sorghum, soybeans, sugar beets, and wheat.
5481-8988 | Turfcide 10% Granular | Amvac | Bedding plants, flowering plants, foliage plants, and bulb crops.
5481-8992 | Turfcide 4F | Amvac | Bedding plants, flowering plants, foliage plants, azaleas, camellias, gladiolus (broadcast), and cut flowers.

Table 2 of this unit includes the name and address of record for the registrant of the products listed in Table 1 of this unit. The company number corresponds to the first part of the EPA registration numbers of the products listed in Table of this unit.

Table 2—Registrants Requesting Voluntary Cancellation and/or Amendments
EPA Company No. | Company name and address
5481 | Amvac Chemical Corporation, 4695 MacArthur Ct., Suite 1200, Newport Beach, CA 92660

IV. What is the agency's authority for taking this action?

Section 6(f)(1) of FIFRA provides that a registrant of a pesticide product may at any time request that any of its pesticide registrations be canceled or amended to terminate one or more uses. FIFRA further provides that, before acting on the request, EPA must publish a notice of receipt of any such request in the Federal Register.

Section 6(f)(1)(B) of FIFRA requires that before acting on a request for voluntary cancellation, EPA must provide a 30-day public comment period on the request for voluntary cancellation or use termination. In addition, FIFRA section 6(f)(1)(C) requires that EPA provide a 180-day comment period on a request for voluntary cancellation or termination of any minor agricultural use before granting the request, unless:

1. The registrants request a waiver of the comment period, or

2. The EPA Administrator determines that continued use of the pesticide would pose an unreasonable adverse effect on the environment.

The PCNB registrant has requested that EPA waive the 180-day comment period. Accordingly, EPA will provide a 30-day comment period on the proposed requests.

V. Procedures for Withdrawal of Requests

Registrants who choose to withdraw a request for product cancellation or use deletion should submit the withdrawal in writing to the person listed under FOR FURTHER INFORMATION CONTACT. If the products(s) have been subject to a previous cancellation action, the effective date of cancellation and all other provisions of any earlier cancellation action are controlling.

VI. Provisions for Disposition of Existing Stocks

Existing stocks are those stocks of registered pesticide products that are currently in the United States and that were packaged, labeled, and released for shipment prior to the effective date of the action. If the requests to delete uses are granted, the Agency intends to publish the use deletion order in the Federal Register.

In any order issued in response to these requests to delete uses, EPA proposes to include the following provisions for the treatment of any existing stocks of the products listed in Table 1 of Unit III.

Once EPA has announced the order to delete the subject uses from these registrations, the registrant will not be permitted to sell or distribute products under the previously approved labeling (that is, product bearing labeling that includes the use sites for which the registrant has requested cancellation), except for export consistent with FIFRA section 17 or for proper disposal.

The registrant will be permitted to relabel the products listed in Table 1 of Unit III to conform with the requested use deletions as long as the registrant has verified that the products have been formulated from Technical PCNB that complies with the certified limits as amended on November 23, 2011 and June 13, 2012, and the registrant retains records demonstrating such compliance.

List of Subjects

Environmental protection, Pesticides and pests.

Dated: May 22, 2014.
Richard P. Keigwin, Jr.,
Director, Pesticide Re-Evaluation Division, Office of Pesticide Programs.

[FR Doc. 2014-13232 Filed 6-5-14; 8:45 am]

BILLING CODE 6560-50-P